DEPARTMENT OF ENERGY

Federal Energy Regulatory Commission

[Project No. 2348-050]

Midwest Hydro, LLC; Notice of Application Accepted for Filing, Soliciting Motions To Intervene and Protests, Ready for Environmental Analysis, and Soliciting Comments, Recommendations, Terms and Conditions, and Fishway Prescriptions

Take notice that the following hydroelectric application has been filed with the Commission and is available for public inspection.

a. Type of Application: Subsequent License.

b. Project No.: 2348-050.

c. Date filed: August 30, 2022.

d. Applicant: Midwest Hydro, LLC (Midwest Hydro).

e. Name of Project: Beloit Hydroelectric Project (Beloit Project).

f. Location: On the Rock River near the City of Beloit in Rock County, Wisconsin.

g. Filed Pursuant to: Federal Power Act 16 U.S.C. 791(a)-825(r).

h. Applicant Contact: Mr. David Fox, Senior Director of Regulatory Affairs, Eagle Creek RE Management, LLC, 7315 Wisconsin Avenue, Suite 1100W, Bethesda, Maryland 20814, (240) 724-8765, david.fox@eaglecreekre.com.

i. FERC Contact: Laura Washington (202) 502-6072, Laura.Washington@ferc.gov.

j. Deadline for filing motions to intervene and protests, comments, recommendations, terms and conditions, and fishway prescriptions: 60 days from the issuance date of this notice; reply comments are due 105 days from the issuance date of this notice.

The Commission strongly encourages electronic filing. Please file motions to intervene and protests, comments, recommendations, terms and conditions, and fishway prescriptions using the Commission's eFiling system at https://www.ferc.gov/docs-filing/efiling.asp. Commenters can submit brief comments up to 6,000 characters, without prior registration, using the eComment system at https://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Beloit Hydroelectric Project (P-2348-050).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Beloit Project consists of the following existing facilities: (1) a 606.47-acre reservoir with a gross storage capacity of 3,032 acre-feet at a maximum reservoir surface elevation of 745.0 feet National Geodetic Vertical Datum of 1929; (2) a 315.9-foot-long dam including four sections from left to right looking downstream: (i) a 42-foot-long non-overflow section, (ii) a 91.1-foot-long Tainter-type gate and stoplog section, (iii) an 81.2-foot-long needle section, and (iv) a 101.6-foot-long slide gate section; (3) a 37-foot-long, 34.5-foot-wide concrete powerhouse with 32-foot-wide by 9-foot-high trashracks with 5.5-inch clear spacing; (4) one vertical-shaft turbine-generator unit with a maximum hydraulic capacity of 725 cubic feet per second and an installed capacity of 480 kilowatts; (5) a 375-foot-wide by 400-foot-long tailrace; (6) a 60-foot-long, 68-kilovolt (kV) transmission line connecting the powerhouse to the point of interconnection via a 4.1-kV/12.4-kV step-up transformer; and (7) appurtenant facilities.

There are no project recreation facilities at the Beloit Project.

The Beloit Project is currently operated in a run-of-river mode and generates an annual average of approximately 3,035 megawatt-hours. Midwest Hydro proposes to continue operating the project as a run-of-river facility and does not propose any new construction.

Midwest Hydro proposes modifications to the current project boundary to add lands that are necessary for project operation. The proposed project boundary would include Midwest Hydro-owned lands that include project facilities near the Beloit Dam and downstream to provide a 400-foot buffer where dam operation turbulence may occur.

The current project boundary encompasses 619.3 acres, which includes 42.41 acres of project lands and 576.89 acres of submerged lands. The proposed project boundary would include approximately 689.21 acres, which includes 79.21 acres of project lands and 610.0 acres of submerged land.

m. A copy of the application can be viewed on the Commission's website at http://www.ferc.gov using the “eLibrary” link. Enter the docket number excluding the last three digits in the docket number field to access the document (i.e., P-2348). For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “TERMS AND CONDITIONS,” or “FISHWAY PRESCRIPTIONS”; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

o. The license applicant must file no later than 60 days following the date of issuance of this notice: (1) a copy of the water quality certification; (2) a copy of the request for certification, including proof of the date on which the certifying agency received the request; or (3) evidence of waiver of water quality certification.

p. Procedural schedule: The application will be processed according to the following schedule. Revisions to the schedule will be made as appropriate.

Milestone | Target date
Deadline for filing comments, recommendations, terms and conditions, and prescriptions | February 2025.
Deadline for filing reply comments | March 2025.

q. Final amendments to the application must be filed with the Commission no later than 30 days from the issuance date of this notice.

Dated: December 4, 2024.
Carlos D. Clay,
Acting Deputy Secretary.

[FR Doc. 2024-28963 Filed 12-9-24; 8:45 am]

BILLING CODE 6717-01-P